DEPARTMENT OF DEFENSE

GENERAL SERVICES ADMINISTRATION

NATIONAL AERONAUTICS AND SPACE ADMINISTRATION

48 CFR Chapter 1

[Docket FAR 2011-0077, Sequence 5]

Federal Acquisition Regulation; Federal Acquisition Circular 2005-53; Small Entity Compliance Guide

AGENCY: Department of Defense (DoD), General Services Administration (GSA), and National Aeronautics and Space Administration (NASA).

ACTION: Small Entity Compliance Guide.

SUMMARY: This document is issued under the joint authority of DOD, GSA, and NASA. This Small Entity Compliance Guide has been prepared in accordance with section 212 of the Small Business Regulatory Enforcement Fairness Act of 1996. It consists of a summary of rules appearing in Federal Acquisition Circular (FAC) 2005-53, which amend the Federal Acquisition Regulation (FAR). An asterisk (*) next to a rule indicates that a regulatory flexibility analysis has been prepared. Interested parties may obtain further information regarding these rules by referring to FAC 2005-53, which precedes this document. These documents are also available via the Internet at http://www.regulations.gov.

DATES: For effective dates see separate documents, which follow.

FOR FURTHER INFORMATION CONTACT: The analyst whose name appears in the table below. Please cite FAC 2005-53 and the specific FAR case number. For information pertaining to status or publication schedules, contact the Regulatory Secretariat at (202) 501-4755.

SUPPLEMENTARY INFORMATION:

List of Rules in FAC 2005-53
Item | Subject | FAR case | Analyst
I | Equal Opportunity for Veterans | 2009-007 | McFadden.
II | Unique Procurement Instrument Identifier | 2009-023 | Morgan.
III | Uniform Suspension and Debarment Requirement | 2009-036 | Jackson.
IV * | Extension of Sunset Date for Protests of Task and Delivery Orders (Interim) | 2011-015 | Lague.
V | Encouraging Contractor Policies To Ban Text Messaging While Driving | 2009-028 | Clark.
VI | TINA Interest Calculations | 2009-034 | Chambers.

Summaries for each FAR rule follow. For the actual revisions and/or amendments made by these FAR cases, refer to the specific item numbers and subject set forth in the documents following these item summaries. FAC 2005-53 amends the FAR as specified below:

Item I—Equal Opportunity for Veterans (FAR Case 2009-007)

The interim rule, published September 29, 2010, is adopted as final with minor changes. A definition from the clause at FAR 52.222-35 for “executive and senior management” is added to FAR subpart 22.13. The interim rule implemented Department of Labor regulations on equal opportunity provisions for various categories of military veterans.

Item II—Unique Procurement Instrument Identifier (FAR Case 2009-023)

This final rule amends the FAR to define the requirement for an agency unique procurement instrument identifier (PIID) and, to extend the requirement for using PIIDs to solicitations, contracts, and related procurement instruments.

This final rule adds two new definitions at 4.001, revises 4.605(a), and adds a new FAR subpart 4.16—Unique Procurement Instrument Identifiers, to prescribe policies and procedures for assigning PIIDs. The Government expects that these changes will reduce data errors and interoperability problems across the Federal Government's business processes which were created by inconsistent and non-unique PIID assignment and use. These changes will not impose new requirements on small businesses, as the rule only addresses internal Government policy and procedures.

Item III—Uniform Suspension and Debarment Requirement (FAR Case 2009-036)

This rule adopts as final, with minor changes, an interim rule which implemented section 815 of the National Defense Authorization Act for Fiscal Year 2010, Public Law 111-84. The law requires that suspension and debarment requirements flow down to all subcontracts except contracts for commercially available off-the-shelf items, and in the case of commercial items, first-tier subcontracts only.

This requirement protects the Government against contracting with entities at any tier who are debarred, suspended, or proposed for debarment. This rule does not have a significant impact on the Government, contractors, or any automated systems.

Item IV—Extension of Sunset Date for Protests of Task and Delivery Orders (FAR Case 2011-015) (Interim)

This interim rule amends the FAR to implement section 825 of the Ike Skelton National Defense Authorization Act for Fiscal Year 2011 (Pub. L. 111-383). Section 825 extends the sunset date for protests against awards of task or delivery orders by DoD, NASA, and the Coast Guard from May 27, 2011 to September 30, 2016. The sunset date for protests against the award of task or delivery orders by other Federal agencies remains May 27, 2011. With this change, contractors will no longer be able to protest task or delivery orders awarded by agencies other than DoD, NASA, and the Coast Guard. There is no effect on Government automated systems.

Item V—Encouraging Contractor Policies To Ban Text Messaging While Driving (FAR Case 2009-028)

This final rule adopts, with changes, the interim rule published in the Federal Register at 75 FR 60264 on September 29, 2010, to implement Executive Order 13513 (October 1, 2009), published in the Federal Register at 74 FR 51225 on October 6, 2009, entitled “Federal Leadership on Reducing Text Messaging while Driving.” This final rule revises FAR clause 52.223-18 to encourage the adoption and enforcement of policies that ban text messaging while driving company-owned or -rented vehicles or Government-owned vehicles; or privately-owned vehicles when on official Government business or when performing any work for or on behalf of the Government. The final rule also revises the language in the clause to encourage contractors to conduct initiatives such as: (1) Establishment of new rules and programs or re-evaluation of existing programs to prohibit text messaging while driving, and (2) education, awareness, and other outreach programs to inform employees about the safety risks associated with texting while driving. This requirement applies to all solicitations and contracts.

Item VI—TINA Interest Calculations (FAR Case 2009-034)

DoD, GSA, and NASA are publishing a final rule amending the FAR to revise the clauses at FAR 52.214-27, FAR 52.215-10, and FAR 52.215-11 to require compound interest calculations be applied to Government overpayments as a result of defective cost or pricing data.

Dated: June 28, 2011.
Laura Auletta,
Acting Director, Office of Governmentwide Acquisition Policy, Office of Acquisition Policy.

[FR Doc. 2011-16678 Filed 7-1-11; 8:45 am]

BILLING CODE 6820-EP-P